DEPARTMENT OF HEALTH AND HUMAN SERVICES

Centers for Disease Control and Prevention

[30Day-24-0943]

Agency Forms Undergoing Paperwork Reduction Act Review

In accordance with the Paperwork Reduction Act of 1995, the Centers for Disease Control and Prevention (CDC) has submitted the information collection request titled “Data Collection for the Residential Care Community and Adult Day Service Center Components of the National Post-acute and Long-term Care Study” to the Office of Management and Budget (OMB) for review and approval. CDC previously published a “Proposed Data Collection Submitted for Public Comment and Recommendations” notice on May 7, 2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies' estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Data Collection for the Residential Care Community and Adult Day Service Center Components of the National Post-acute and Long-term Care Study (OMB Control No. 0920-0943 Exp. 07/31/2025)—Revision—National Center for Health Statistics (NCHS), Centers for Disease Control and Prevention (CDC).

Background and Brief Description

The NPALS is designed to: (1) broaden NCHS' ongoing coverage of paid, regulated long-term care (LTC) providers; (2) present alongside existing administrative data on LTC providers and service users (i.e., Centers for Medicare and Medicaid Services (CMS) data on inpatient rehabilitation facilities and patients, long-term care hospitals and patients, nursing homes and residents, home health agencies and patients, and hospices and patients); (3) update data more frequently on LTC providers and service users for which nationally representative administrative data do not exist; and (4) enable comparisons across LTC sectors and timely monitoring of supply and use of these sectors over time.

Data will be collected from two types of LTC providers in the 50 states and the District of Columbia: 11,600 Residential Care Communities (RCC) and 5,500 Adult Day Service Centers (ADSC). Data were collected in 2012, 2014, 2016, 2018, 2020, and 2022. The data to be collected in 2024 include the basic characteristics, services, staffing, and practices of RCCs and ADSCs, and aggregate-level distributions of the demographics, selected health conditions and health care utilization, physical functioning, and cognitive functioning of RCC residents and ADSC participants.

Expected users of data from this collection effort include, but are not limited to CDC; other Department of Health and Human Services (DHHS) agencies, such as the Office of the Assistant Secretary for Planning and Evaluation, The Administration for Community Living, and the Agency for Healthcare Research and Quality; associations, such as LeadingAge, National Center for Assisted Living, American Seniors Housing Association, Argentum, and National Adult Day Services Association; universities; foundations; and other private sector organizations such as the Alzheimer's Association and the AARP Public Policy Institute.

Expected burden from data collection for eligible cases is 30 minutes per respondent. An estimated 5% of RCC and ADSC respondents will have an additional five minutes of burden to complete a data retrieval call. We calculated the burden based on a 100% response rate. A two-year clearance is requested to cover the collection of data. The burden for the collection is shown in Table below and totals 4,311 hours annually. There is no cost to respondents other than their time to participate.

Estimated Annualized Burden Hours

Type of respondents | Form name | Number of respondents | Number of responses per respondent | Average burden per response (in hours)
RCC Director/Designated Staff Member | RCC Questionnaire | 5,800 | 1 | 30/60
ADSC Director/Designated Staff Member | ADSC Questionnaire | 2,750 | 1 | 30/60
RCC/ADSC Director/Designated Staff Member | Data retrieval call | 428 | 1 | 5/60

Jeffrey M. Zirger,
Lead, Information Collection Review Office, Office of Public Health Ethics and Regulations, Office of Science, Centers for Disease Control and Prevention.

[FR Doc. 2024-16490 Filed 7-25-24; 8:45 am]

BILLING CODE 4163-18-P